DEPARTMENT OF JUSTICE

Notice of Lodging of Proposed Consent Decree Under the Clean Air Act

On November 4, 2022, the Department of Justice lodged a proposed Consent Decree with the United States District Court for the Southern District of Ohio in the lawsuit entitled United States v. Utica Resource Operating, LLC, Case No. 22-cv-3906 (S.D. Ohio).

The Complaint seeks civil penalties and injunctive relief relating to a number of oil and natural gas production well pads that Utica Resource Operating, LLC (“URO”) operates in Ohio. The claims in the Complaint arise from URO's alleged failure to comply with the CAA rules for preventing uncontrolled emissions of volatile organic compounds from dozens of large tanks that store crude oil and oily wastewater at the facilities. The Complaint alleges violations relating to noncompliance with storage vessel cover and closed vent system requirements, combustor operation requirements, and inspection and recordkeeping requirements. Under the Consent Decree, URO would be required to take a number of measures to come into compliance with the law. In particular, the proposed Consent Decree requires URO to pay a $1 million civil penalty, complete a suite of injunctive relief at fifteen well pads to come into compliance with the NSPS and the facilities' operating permits, and implement mitigation measures at many of the well pads owned by URO. The Consent Decree requires a multi-step compliance program to review the current design of each tank and vapor control system and then make necessary design improvements to ensure that vapors will not be released to the atmosphere during operations.

The publication of this notice opens a period for public comment on the Consent Decree. Comments should be addressed to the Assistant Attorney General, Environment and Natural Resources Division, and should refer to United States v. Utica Resource Operating, LLC, D.J. Ref. No. 90-5-2-1-12514. All comments must be submitted no later than 30 days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $10.75 (25 cents per page reproduction cost) payable to the United States Treasury.

Patricia McKenna,
Assistant Section Chief, Environmental Enforcement Section, Environment and Natural Resources Division.

[FR Doc. 2022-24680 Filed 11-10-22; 8:45 am]

BILLING CODE 4410-15-P